GENERAL ACCOUNTING OFFICE

Federal Accounting Standards Advisory Board

AGENCY: General Accounting Office.

ACTION: Notice of meeting on April 13-14, 2000.

Board Meeting Summary: Pursuant to section 10(a)(2) of the Federal Advisory Committee Act (Pub. L. No. 92-463), as amended, notice is hereby given that the Federal Accounting Standards Advisory Board will hold a meeting on Thursday, April 13, from 1 to 4 and Friday, April 14, from 9 to 3:30 p.m. room 7C13, the Elmer Staats Briefing Room, of the General Accounting Office building, 441 G St., NW, Washington, DC.

The purpose of the meeting is to:

• Approve procedures for Technical Bulletins

• Discuss the FASAB Technical Agenda

• Discuss Supplementary Stewardship reporting

• Review the draft Implementation Guide

Any interested person may attend the meeting as an observer. Board discussions and reviews are open to the public.

FOR FURTHER INFORMATION CONTACT: Wendy Comes, Executive Director, 441 G St., NW, Room 6814, Washington, DC 20548, or call (202) 512-7350.

Authority: Federal Advisory Committee Act. Pub. L. No. 92-463, Section 10(a)(2), 86 Stat. 770, 774 (1972) (current version at 5 U.S.C. app. section 10(a)(2) (1988); 41 CFR 101-6.1015 (1990).

Dated: March 17, 2000.
Wendy M. Comes,
Executive Director.

[FR Doc. 00-7129 Filed 3-21-00; 8:45 am]

BILLING CODE 1610-01-M